FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Anchor Logistix (Canada) Ltd. Dba Anchor Logistix (USA) Ltd., 1030 Kamato Road, Mississauga L4W 4B6 Canada. Officer: Wasim Ahmed, Director (Qualifying Individual).

O.E.C. Shipping Los Angeles Inc., 13100 Alondra Blvd., Cerritos, CA 90703. Officer: John Su, Secretary (Qualifying Individual).

Non-Vessel Operating Common Carrier and Ocean Freight Forwarder Transportation Intermediary Applicants

YS Solutions, Inc., 25232 Tandem Way, Torrance, CA 90505. Officers: Shawn I. Chiu, CFO (Qualifying Individual), Chi-Huang Ho, CEO.

BTL, Inc., 71 Apollo Street, San Francisco, CA 94124. Officer: Liang Zhen Zhao, President (Qualifying Individual).

BestGuy Moving Services LLC, 18 Van Saun Place, Fair Lawn, NJ 07410. Officers: Guy Drori, Member/Manager (Qualifying Individual).

Rical Air Express, Inc. dba Rical Logistics, One Cross Island Plaza, #227, Rosedale, NY 11422. Officer: Tom N. Novello, Vice President (Qualifying Individual).

HYC Logistics, Inc., 2600 Thousand Oaks Blvd., Memphis, TN 38118. Officer: Velma L. Burks, Export Compliance Officer (Qualifying Individual).

Royal Pacific Shipping, Co., 58 Leslie Street, Newark, NJ 07108. Officers: Roydol Nutty, Vice President (Qualifying Individual), Atta Boamah, President.

Taggart International, Ltd. Dba Taggart Lines, Ltd., 1792 Red Oak Court, Liberty, MO 64068. Officer: Sean K. Scarbrough, President (Qualifying Individual).

World Export & Logistics, Inc., 690 W 20th Street, Hialeah, FL 33010. Officer: Roberto Acevedo, Secretary (Qualifying Individual).

Onward Shipping & Clearing Services Inc., 2305 Oak Lane, Grand Prairie, TX 75051. Officer: Julius Okunola, President (Qualifying Individual).

Flat Rate International LLC, 27 Bruckner Blvd., Bronx, NY 10454. Officers: Yaron Arbietmen, CEO (Qualifying Individual), Sharone Ben Harush, Member/President.

Sitorex Corporation, 5926 Glenoak Avenue, Baltimore, MD 21214. Officer: Emmanuel Ndiaye, President (Qualifying Individual).

Aromark Shipping LLC, 187-189 Foundry Street, Newark, NJ 07105. Officers: Robert Meltser, President (Qualifying Individual), Gabriel Meltser, Vice President.

Ocean Freight Forwarder—Ocean Transportation Intermediary Applicants

GAP Forwarding, Inc., 11460 NW 39th Street, Doral, FL 33178. Officer: Patrick Anthony William Scott, President (Qualifying Individual).

ICAT Logistics, Inc., 6805 Douglas Legum Drive, Elkridge, MD 21075. Officer: Daniel M. Frank, Vice President (Qualifying Individual).

Benchmark Export Services, Inc., 108 A Erickson Avenue, Essington, PA 19029. Officer: Scott Hoffman, President (Qualifying Individual).

DEC Global Logistics, LLC, 3803 Clcada Lane, Houston, TX 77039. Officers: David Alfaro, Managing Member (Qualifying Individual), Carlos E. Alfaro, Managing Member.

Empire Global Logistics, LLC, 160-51 Rockaway Blvd., Ste. 206, Jamaica, NY 11434. Officer: Ben Arculli, Manager (Qualifying Individual).

CR International, Ltd., 192 Cherry Hill Road NW., Cedar Rapids, IA 52405. Officer: Roxann M. Von Lienen, President (Qualifying Individual).

JR Transportation, Inc., 7949 Stromesa Ct., San Diego, CA 92126. Officers: Martha G. Alfaro, Vice President (Qualifying Individual), Michael J. Jeffers, President.

Dated: January 30, 2009.
Karen V. Gregory,
Secretary.

[FR Doc. E9-2366 Filed 2-3-09; 8:45 am]

BILLING CODE 6730-01-P